DEPARTMENT OF COMMERCE

Office of the Secretary

13 CFR Ch. III

15 CFR Subtitle A; Subtitle B, Chs. I, II, III, VII, VIII, IX, and XI

19 CFR Ch. III

37 CFR Chs. I, IV, and V

48 CFR Ch. 13

50 CFR Chs. II, III, IV, and VI

Spring 2015 Semiannual Agenda of Regulations

AGENCY: Office of the Secretary, Commerce.

ACTION: Semiannual regulatory agenda.

SUMMARY: In compliance with Executive Order 12866, entitled “Regulatory Planning and Review,” and the Regulatory Flexibility Act, as amended, the Department of Commerce (Commerce), in the spring and fall of each year, publishes in the Federal Register an agenda of regulations under development or review over the next 12 months. Rulemaking actions are grouped according to prerulemaking, proposed rules, final rules, long-term actions, and rulemaking actions completed since the fall 2014 agenda. The purpose of the Agenda is to provide information to the public on regulations that are currently under review, being proposed, or issued by Commerce. The agenda is intended to facilitate comments and views by interested members of the public.

Commerce's spring 2015 regulatory agenda includes regulatory activities that are expected to be conducted during the period April 1, 2015, through March 31, 2016.

FOR FURTHER INFORMATION CONTACT: Specific: For additional information about specific regulatory actions listed in the agenda, contact the individual identified as the contact person.

General: Comments or inquiries of a general nature about the agenda should be directed to Asha Mathew, Chief Counsel for Regulation, Office of the Assistant General Counsel for Legislation and Regulation, U.S. Department of Commerce, Washington, DC 20230, telephone: 202-482-3151.

SUPPLEMENTARY INFORMATION: Commerce hereby publishes its spring 2015 Unified Agenda of Federal Regulatory and Deregulatory Actions pursuant to Executive Order 12866 and the Regulatory Flexibility Act, 5 U.S.C. 601 et seq. Executive Order 12866 requires agencies to publish an agenda of those regulations that are under consideration pursuant to this order. By memorandum of February 23, 2015, the Office of Management and Budget issued guidelines and procedures for the preparation and publication of the spring 2015 Unified Agenda. The Regulatory Flexibility Act requires agencies to publish, in the spring and fall of each year, a regulatory flexibility agenda that contains a brief description of the subject of any rule likely to have a significant economic impact on a substantial number of small entities, and a list that identifies those entries that have been selected for periodic review under section 610 of the Regulatory Flexibility Act.

In addition, beginning with the fall 2007 edition, the Internet became the basic means for disseminating the Unified Agenda. The complete Unified Agenda is available online at www.reginfo.gov, in a format that offers users a greatly enhanced ability to obtain information from the Agenda database.

Because publication in the Federal Register is mandated for the regulatory flexibility agendas required by the Regulatory Flexibility Act, Commerce's printed agenda entries include only:

(1) Rules that are in the Agency's regulatory flexibility agenda, in accordance with the Regulatory Flexibility Act, because they are likely to have a significant economic impact on a substantial number of small entities; and

(2) Rules that the Agency has identified for periodic review under section 610 of the Regulatory Flexibility Act.

Printing of these entries is limited to fields that contain information required by the Regulatory Flexibility Act's Agenda requirements. Additional information on these entries is available in the Unified Agenda published on the Internet.

Within Commerce, the Office of the Secretary and various operating units may issue regulations. These operating units, the National Oceanic and Atmospheric Administration (NOAA), the Bureau of Industry and Security, and the Patent and Trademark Office, issue the greatest share of Commerce's regulations.

A large number of regulatory actions reported in the Agenda deal with fishery management programs of NOAA's National Marine Fisheries Service (NMFS). To avoid repetition of programs and definitions, as well as to provide some understanding of the technical and institutional elements of NMFS' programs, an “Explanation of Information Contained in NMFS Regulatory Entries” is provided below.

Explanation of Information Contained in NMFS Regulatory Entries

The Magnuson-Stevens Fishery Conservation and Management Act (16 U.S.C. 1801 et seq.) (the Act) governs the management of fisheries within the Exclusive Economic Zone of the United States (EEZ). The EEZ refers to those waters from the outer edge of the State boundaries, generally 3 nautical miles, to a distance of 200 nautical miles. Fishery Management Plans (FMPs) are to be prepared for fisheries that require conservation and management measures. Regulations implementing these FMPs regulate domestic fishing and foreign fishing where permitted. Foreign fishing may be conducted in a fishery in which there is no FMP only if a preliminary fishery management plan has been issued to govern that foreign fishing. Under the Act, eight Regional Fishery Management Councils (Councils) prepare FMPs or amendments to FMPs for fisheries within their respective areas. In the development of such plans or amendments and their implementing regulations, the Councils are required by law to conduct public hearings on the draft plans and to consider the use of alternative means of regulating.

The Council process for developing FMPs and amendments makes it difficult for NMFS to determine the significance and timing of some regulatory actions under consideration by the Councils at the time the semiannual regulatory agenda is published.

Commerce's spring 2015 regulatory agenda follows.

Kelly Welsh,
General Counsel.

National Oceanic and Atmospheric Administration—Proposed Rule Stage
Sequence No. | Title | Regulation Identifier No.
28 | Amendment 22 to the Fishery Management Plan for the Snapper Grouper Fishery of the South Atlantic Region | 0648-BA53
29 | Fisheries Off West Coast States; West Coast Salmon Fisheries; Amendment 18; Essential Fish Habitat Descriptions for Pacific Salmon | 0648-BC95
30 | Amendment 5b to the Highly Migratory Species Fishery Management Plan | 0648-BD22
31 | Amendment 39 to the Fishery Management Plan for the Reef Fish Resources of the Gulf of Mexico | 0648-BD25
32 | Implementation of a Program for Transshipments by Large Scale Fishing Vessels in the Eastern Pacific Ocean | 0648-BD59
33 | Red Snapper Allocation—Amendment 28 to the Fishery Management Plan for the Reef Fish Resources of the Gulf of Mexico (Section 610 Review) | 0648-BD68
34 | Amendment 7 to the FMP for the Dolphin Wahoo Fishery of the Atlantic and Amendment 33 to the FMP for the Snapper-Grouper Fishery of the South Atlantic | 0648-BD76
35 | Regulatory Amendment 16 to the Fishery Management Plan for the Snapper-Grouper Fishery of the South Atlantic Region | 0648-BD78
36 | 2015-2016 Pacific Coast Groundfish Harvest Specifications and Management Measures and Amendment 24 to the Pacific Coast Groundfish FMP | 0648-BE27
37 | Generic Accountability Measure and Dolphin Allocation Amendment for the South Atlantic Region | 0648-BE38
38 | Omnibus Acceptable Biological Catch Framework Adjustment | 0648-BE65
39 | Amendment 35 to the Fishery Management Plan for the Snapper Grouper Fishery of the South Atlantic Region | 0648-BE70
40 | Modification of the Temperature-Dependent Component of the Pacific Sardine Harvest Guideline Control Rule to Incorporate new Scientific Information | 0648-BE77
41 | Modification of the Daily Bag Limits and to Establish At-sea Fillet Requirements for the U.S. West Coast Recreational Pacific Bluefin Tuna Fishery | 0648-BE78
42 | 2015-2016 Atlantic Bluefin Tuna Quotas | 0648-BE81
43 | Revision of Skate Maximum Retainable Amounts in the Gulf of Alaska Groundfish Fishery | 0648-BE85
44 | 2015 Summer Flounder, Scup, and Black Sea Bass Recreational Harvest Measures | 0648-BE89
45 | Pacific Coast Groundfish Fishing Capacity Reduction Loan Refinance (Section 610 Review) | 0648-BE90
46 | Amendment 44 to the Fishery Management Plan for Bering Sea/Aleutian Islands King and Tanner Crabs to Modify Right of First Refusal Provisions of the Crab Rationalization Program | 0648-BE98
47 | Revisions to Hawaiian Islands Humpback Whale National Marine Sanctuary Regulations | 0648-BD97

National Oceanic and Atmospheric Administration—Final Rule Stage
Sequence No. | Title | Regulation Identifier No.
48 | Fishery Management Plan for Regulating Offshore Marine Aquaculture in the Gulf of Mexico | 0648-AS65
49 | Atlantic Highly Migratory Species; Future of the Atlantic Shark Fishery | 0648-BA17
50 | Implement the 2010 Shark Conservation Act Provisions and Other Regulations in the Atlantic Smoothhound Shark Fishery | 0648-BB02
51 | Amendment 7 to the 2006 Consolidated Highly Migratory Species Fishery Management Plan | 0648-BC09
52 | Amendment 43 to the FMP for BSAI King and Tanner Crabs and Amendment 103 to the FMP for Groundfish of the BSAI | 0648-BC34
53 | Pacific Coast Groundfish Trawl Rationalization Program Trailing Action: Rule to Modify Chafing Gear Regulations for Midwater Trawl Gear Used in the Pacific Coast Groundfish Fishery | 0648-BC84
54 | Codifying the Initial Vessel Monitoring System Type-approval Process and Requirements, and the Recertification and Revocation Processes | 0648-BD02
55 | Pacific Coast Groundfish Trawl Rationalization Program Trailing Actions: Permitting Requirements for Observer and Catch Monitor Providers | 0648-BD30
56 | Amendment 97 to the Fishery Management Plan for Groundfish of the Gulf of Alaska to Establish Chinook Salmon Prohibited Species Catch Limits for the Non-pollock Trawl Fisheries | 0648-BD48
57 | Implementation of the Inter-American Tropical Tuna Commission Resolution to Establish a Vessel Monitoring System Program in the Eastern Pacific Ocean | 0648-BD54
58 | Amendment 45 to the Fishery Management Plan for Bering Sea and Aleutian Islands King and Tanner Crab Freezer Longline Catcher/Processor Pacific Cod Sideboard Removal | 0648-BD61
59 | Information Collection Program for Atlantic Surfclam and Ocean Quahog Fisheries | 0648-BD64
60 | Amendment 8 to the Fishery Management Plan for Coral, Coral Reefs, and Live/Hard Bottom Habitats of the South Atlantic Region | 0648-BD81
61 | Amendment 100 to the FMP for Groundfish of the BSAI Management Area and Amendment 91 to the FMP for Groundfish of the Gulf of Alaska to add Grenadiers to the Ecosystem Component Category | 0648-BD98
62 | Implementation of a Gulf of Alaska Trawl Fishery Economic Data Collection Program | 0648-BE09
63 | Regulatory Amendment to Change the Definition of Sport Fishing Guide Services for Pacific Halibut in International Pacific Halibut Commission Area 2C and Area 3A | 0648-BE41
64 | Framework Action to Revise Recreational Accountability Measures for Red Snapper | 0648-BE44
65 | Amendment 16 to the Fishery Management Plan for the Shrimp Fishery of the Gulf of Mexico, U.S. Waters | 0648-BE46
66 | Amendment 40 to the Fishery Management Plan for the Reef Fish Resources of the Gulf of Mexico | 0648-BE47
67 | 2015-2017 Specifications and Management Measures for the Atlantic Mackerel, Squid, and Butterfish Fisheries | 0648-BE49
68 | Framework Adjustment 26 to the Atlantic Sea Scallop Fishery Management Plan (Section 610 Review) | 0648-BE68
69 | Designation of Critical Habitat for the North Atlantic Right Whale | 0648-AY54
70 | Revision of Hawaiian Monk Seal Critical Habitat | 0648-BA81
71 | Endangered and Threatened Species: Designation of Critical Habitat for Threatened Lower Columbia River Coho Salmon and Puget Sound Steelhead | 0648-BB30
72 | Designation of Critical Habitat for the Arctic Ringed Seal | 0648-BC56
73 | 2015 Annual Determination to Implement the Sea Turtle Observer Requirement | 0648-BE35

National Oceanic and Atmospheric Administration—Long-Term Actions
Sequence No. | Title | Regulation Identifier No.
74 | Comprehensive Fishery Management Plan for Puerto Rico | 0648-BD32
75 | Comprehensive Fishery Management Plan for St. Croix | 0648-BD33
76 | Comprehensive Fishery Management Plan for St. Thomas/St. John | 0648-BD34
77 | Designate Critical Habitat for the Hawaiian Insular False Killer Whale Distinct Population Segment | 0648-BC45

National Oceanic and Atmospheric Administration—Completed Actions
Sequence No. | Title | Regulation Identifier No.
78 | Inner Limit of the Exclusive Economic Zone under the Magnuson-Stevens Fishery Conservation and Management Act | 0648-BC92
79 | Regulatory Amendment 14 to the Fishery Management Plan for the Snapper-Grouper Fishery of the South Atlantic Region | 0648-BD07
80 | Amendment 105 Bering Sea Flatfish Harvest Specifications Flexibility | 0648-BD23
81 | International Fisheries; Western and Central Pacific Fisheries for Highly Migratory Species; Fishing Restrictions Regarding the Oceanic Whitetip Shark, the Whale Shark, and the Silky Shark | 0648-BD44
82 | Southern New England Effort Controls to Address Lobster Stock Rebuilding Measures | 0648-BD45
83 | South Atlantic Coastal Migratory Pelagics Framework Action 2013 (Completion of a Section 610 Review) | 0648-BD58
84 | Amendment 96 to the Fishery Management Plan for Groundfish of the Gulf of Alaska to revise the Community Quota Entity Program | 0648-BD74
85 | Amendment 20B to the Fishery Management Plan for the Coastal Migratory Pelagic Resources of the Gulf of Mexico and Atlantic Region | 0648-BD86
86 | Temporary Rule Through Emergency Action to Revise Annual Catch Limits and Accountability Measures for Blueline Tilefish and the Deep-Water Complex in the South Atlantic Region | 0648-BD87
87 | Framework Adjustment 3 to the Atlantic Herring Fishery Management Plan | 0648-BE01
88 | Steller Sea Lion Protection Measures for the Bering Sea and Aleutian Islands Groundfish Fisheries off Alaska | 0648-BE06
89 | Implement 2015-2017 Tilefish Specifications | 0648-BE37
90 | Marine Mammal Protection Act Permit Regulation Revisions | 0648-AV82
91 | Designation of Critical Habitat for the Beringia Distinct Population Segment of the Bearded Seal | 0648-BC55
92 | Designation of Critical Habitat for the Distinct Population Segments of Yelloweye Rockfish, Canary Rockfish, and Bocaccio | 0648-BC76

DEPARTMENT OF COMMERCE (DOC)

National Oceanic and Atmospheric Administration (NOAA)

Proposed Rule Stage

National Marine Fisheries Service

28. Amendment 22 to the Fishery Management Plan for the Snapper Grouper Fishery of the South Atlantic Region

Legal Authority: 16 U.S.C. 1801 et seq.

Abstract: Amendment 22 is being developed to closely control annual harvest levels of snapper-grouper species with very low recreational annual catch limits through a recreational tag program. Participants in the tag program would be issued tags through a process implemented by the National Marine Fisheries Service. Tags issued to individuals or entities would allow the tag holder to harvest a set number of fish from federal waters in the South Atlantic Region. A tag program for species with small annual catch limits would help constrain harvest at or below the annual catch limits while ensuring fairness and equitability among fishery participants.

Timetable:

Action | Date | FR Cite
Notice of Intent | 01/03/11 | 76 FR 101
Notice of Intent Comment Period End | 02/14/11
NPRM | 02/00/16

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BA53

29. Fisheries Off West Coast States; West Coast Salmon Fisheries; Amendment 18; Essential Fish Habitat Descriptions for Pacific Salmon

Legal Authority: 16 U.S.C. 1801 et seq.

Abstract: The action implements Amendment 18 to the Pacific Coast Salmon Fishery Management Plan. This amendment addressed revisions to the Pacific coast salmon essential fish habitat provisions under the Magnuson-Stevens Fishery Conservation and Management Act.

Timetable:

Action | Date | FR Cite
Notice | 06/16/14 | 79 FR 34272
NPRM | 12/00/15

Regulatory Flexibility Analysis Required: No.

Agency Contact: William Stelle Jr., Regional Administrator, West Coast Region, Department of Commerce, National Oceanic and Atmospheric Administration, 7600 Sand Point Way Northeast, Building 1, Seattle, WA 98115, Phone: 206 526-6150, Email: will.stelle@noaa.gov.

RIN: 0648-BC95

30. Amendment 5B to the Highly Migratory Species Fishery Management Plan

Legal Authority: 16 U.S.C. 1801 et seq.; 16 U.S.C. 971 et seq.

Abstract: This rulemaking would propose management measures for dusky sharks based on a recent stock assessment, taking into consideration comments received on the proposed rule and Amendment 5 to the 2006 Consolidated Highly Migratory Species Fishery Management Plan. This rulemaking could consider a range of commercial and recreational management measures in both directed and incidental shark fisheries including, among other things, gear modifications, time/area closures, permitting, shark identification requirements, and reporting requirements. NMFS determined dusky sharks are still overfished and still experiencing overfishing and originally proposed management measures to end overfishing and rebuild dusky sharks in a proposed rule for Draft Amendment 5 to the 2006 Consolidated Atlantic Highly Migratory Species Fishery Management Plan. That proposed rule also contained management measures for scalloped hammerhead, sandbar, blacknose and Gulf of Mexico blacktip sharks. NMFS decided to move forward with Draft Amendment 5's management measures for scalloped hammerhead, sandbar, blacknose and Gulf of Mexico blacktip sharks in a final rule and final amendment that will now be referred to as “Amendment 5a” to the 2006 Consolidated Atlantic Highly Migratory Species Fishery Management Plan. Dusky shark management measures will be addressed in this separate, but related, action and will be referred to as “Amendment 5b.”

Timetable:

Action | Date | FR Cite
NPRM | 12/00/15

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596, Email: alan.risenhoover@noaa.gov.

RIN: 0648-BD22

31. Amendment 39 to the Fishery Management Plan for the Reef Fish Resources of the Gulf of Mexico

Legal Authority: 16 U.S.C. 1801 et seq.

Abstract: The purpose of this action is to facilitate management of the recreational red snapper component in the reef fish fishery by reorganizing the federal fishery management strategy to better account for biological, social, and economic differences among the regions of the Gulf of Mexico. Regional management would enable regions and their associated communities to specify the optimal management parameters that best meet the needs of their local constituents thereby addressing regional socio-economic concerns.

Timetable:

Action | Date | FR Cite
Notice | 05/13/13 | 78 FR 27956
Next Stage Undetermined | 12/00/15

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD25

32. Implementation of a Program for Transshipments by Large Scale Fishing Vessels in the Eastern Pacific Ocean

Legal Authority: 16 U.S.C. 951 et seq.; 16 U.S.C. 971 et seq.

Abstract: This rule would implement the Inter-American Tropical Tuna Commission program to monitor transshipments by large-scale tuna fishing vessels, and would govern transshipments by U.S. large-scale tuna fishing vessels and carrier, or receiving, vessels. The rule would establish: criteria for transshipping in port; criteria for transshipping at sea by longline vessels to an authorized carrier vessel with an Inter-American Tropical Tuna Commission observer onboard and an operational vessel monitoring system; and require the Pacific Transshipment Declaration Form, which must be used to report transshipments in the Inter-American Tropical Tuna Commission Convention Area. The rule is neither applicable to troll and pole-and-line vessels, nor to vessels that transship fresh fish at sea. The frequency of transshipments in the Eastern Pacific Ocean is uncertain, but only a few transshipments are expected annually. A similar rule was adopted in the Western and Central Pacific Ocean and the National Marine Fisheries Service calculated that an average of twenty-four at-sea transshipments of fish caught by longline gear there have occurred annually from 1993 through 2009. Transshipments in the Eastern Pacific Ocean are likely to be much less than twenty-four per year. This rule is necessary for the United States to satisfy its international obligations under the 1949 Convention for the Establishment of an Inter-American Tropical Tuna, to which it is a Contracting Party.

Timetable:

Action | Date | FR Cite
NPRM | 10/00/15

Regulatory Flexibility Analysis Required: Yes.

Agency Contact: William Stelle Jr., Regional Administrator, West Coast Region, Department of Commerce, National Oceanic and Atmospheric Administration, 7600 Sand Point Way Northeast, Building 1, Seattle, WA 98115, Phone: 206 526-6150, Email: will.stelle@noaa.gov.

RIN: 0648-BD59

33. Red Snapper Allocation—Amendment 28 to the Fishery Management Plan for the Reef Fish Resources of the Gulf of Mexico (Section 610 Review)

Legal Authority: 16 U.S.C. 1801 et seq.

Abstract: The current allocation of red snapper between the commercial and recreational sectors is 51:49 percent, respectively. The Gulf of Mexico Fishery Management Council (Council) is considering a change in the allocation with the aim of increasing the net benefits from red snapper fishing and increasing the stability of the red snapper recreational component of the reef fish fishery. The rule will consider options that would increase the recreational sector's allocation above 49 percent.

Timetable:

Action | Date | FR Cite
NPRM | 12/00/15

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD68

34. Amendment 7 to the FMP for the Dolphin Wahoo Fishery of the Atlantic and Amendment 33 to the FMP for the Snapper-Grouper Fishery of the South Atlantic

Legal Authority: 16 U.S.C. 1801 et seq.

Abstract: The purpose of Amendment 7 to the Fishery Management Plan for the Dolphin and Wahoo Fishery of the Atlantic is to allow fishermen to bring dolphin and wahoo fillets from The Commonwealth of The Bahamas into the U.S. Economic Exclusive Zone (EEZ). Regulations at 50 CFR 622.186 (b) currently allow fillets of snapper grouper species from The Bahamas to be brought into the U.S. EEZ. Additionally, regulations would be updated for snapper grouper species and dolphin and wahoo to require all fillets to have the skin intact; and consider an exemption from bag limits for dolphin and wahoo in the U.S. EEZ. The need for this action is to increase economic and social benefits to fishermen by removing unnecessary restrictions and implementing regulations for dolphin and wahoo that are consistent with snapper grouper species.

Timetable:

Action | Date | FR Cite
NPRM | 07/00/15

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD76

35. Regulatory Amendment 16 to the Fishery Management Plan for the Snapper-Grouper Fishery of the South Atlantic Region

Legal Authority: 16 U.S.C. 1801 et seq.

Abstract: Regulatory Amendment 16 contains an action to address the prohibition on the use of black sea bass pots annually from November 1 through April 30 that was implemented through Regulatory Amendment 19. The prohibition was a precautionary measure to prevent interactions between black sea bass pot gear and whales listed under the Endangered Species Act during large whale migrations and the right whale calving season off the southeastern coast. The South Atlantic Fishery Management Council, through Regulatory Amendment 16, is considering removal of the closure, changing the length of the closure, and changing the area of the closure. The goal is to minimize adverse socio-economic impacts to black sea bass pot endorsement holders while maintaining protection for Endangered Species Act-listed whales in the South Atlantic region.

Timetable:

Action | Date | FR Cite
NPRM | 07/00/15 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD78

36. 2015-2016 Pacific Coast Groundfish Harvest Specifications and Management Measures and Amendment 24 to the Pacific Coast Groundfish FMP

Legal Authority: 16 U.S.C. 1801 et seq.

Abstract: The action set biennial allowable harvest levels for Pacific Coast groundfish, as well as management measures for commercial and recreational fisheries that are designed to achieve those harvest levels. For the 2015-2016 biennium, the Council recommended changes in rebuilding parameters for one overfished species, cowcod. As such, the rebuilding plan was revised and affected the Annual Catch Limit value for this species for the two-year period and beyond. The rule adjusts the harvest specifications including Overfishing Limits, the Acceptable Biological Catches, and Annual Catch Limits, as well as the management measures to achieve those specifications. Finally, the rule implements Amendment 24, which modifies the procedures in the Fishery Management Plan so that in the absence of explicit Council action, harvest specification values, based on default harvest control rules, for one or more stocks may be implemented by the National Marine Fisheries Service.

Timetable:

Action | Date | FR Cite
NPRM | 12/00/15 |

Regulatory Flexibility Analysis Required: Yes.

Agency Contact: William Stelle Jr., Regional Administrator, West Coast Region, Department of Commerce, National Oceanic and Atmospheric Administration, 7600 Sand Point Way Northeast, Building 1, Seattle, WA 98115, Phone: 206 526-6150, Email: will.stelle@noaa.gov.

RIN: 0648-BE27

37. Generic Accountability Measure and Dolphin Allocation Amendment for the South Atlantic Region

Legal Authority: 16 U.S.C. 1801 et seq.

Abstract: The action would include amendment 34 to the Fishery Management Plan for the Snapper-Grouper Fishery of the South Atlantic Region, amendment 9 to the Fishery Management Plan for the Golden Crab Fishery of the South Atlantic Region, and amendment 8 to the Fishery Management Plan for the Dolphin-Wahoo Fishery of the Atlantic. Currently, there are inconsistent accountability measures for federally managed species in the South Atlantic, except for inseason closures of the commercial sector when a commercial annual catch limit is met or projected to be met. Therefore, amendment 34 and amendment 9 would propose modifications to accountability measures for snapper-grouper species and golden crab to create a more consistent regulatory environment while ensuring overfishing does not occur. Amendment 8 would consider alternatives to modify sector allocations for dolphin. The current method for determining allocations is based on a time series of data from 1999-2008. Dolphin landings data starting from 1986 are available, and the South Atlantic Fishery Management Council is re-examining the sector allocations based on this expanded times series of data.

Timetable:

Action | Date | FR Cite
NPRM | 07/00/15 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727-824-5308, Email: roy.crabtree@noaa.gov.

RIN: 0648-BE38

38. • Omnibus Acceptable Biological Catch Framework Adjustment

Legal Authority: 16 U.S.C. 1801 et seq.

Abstract: This action would make two administrative adjustments to the Mid-Atlantic Fishery Management Councils (Council) Omnibus Annual Catch Limit Amendment: 1) adjust the Councils risk policy so that the Scientific and Statistical Committee may apply an average probability of overfishing when recommending multi-year Acceptable Biological Catches; and 2) make all of the Councils fishery management plans consistent in allowing new status determination criteria (overfishing definitions, etc.) to be accepted as the best available scientific information.

Timetable:

Action | Date | FR Cite
NPRM | 07/00/15 |

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BE65

39. • Amendment 35 to the Fishery Management Plan for the Snapper Grouper Fishery of the South Atlantic Region

Legal Authority: 16 U.S.C. 1801 et seq.

Abstract: Amendment 35 would consider removing black snapper, dog snapper, mahogany snapper, and schoolmaster from the Fishery Management Plan for the Snapper-Grouper Fishery of the South Atlantic Region because these species have extremely low commercial landings in state and Federal waters. Almost all harvest (recreational and commercial) occurs in South Florida, and the Florida Fish and Wildlife Conservation Commission has agreed that if the four species are removed from the Fishery Management Plan for the Snapper-Grouper Fishery of the South Atlantic Region they will extend state regulations for those species into Federal waters. Additionally, the South Atlantic Fishery Management Council (Council) desires consistent regulations for snapper-grouper species caught primarily in South Florida. Removing the four subject species would establish a consistent regulatory environment in Federal and state waters off southern Florida where they are most frequently encountered. Amendment 35 would also clarify, in accordance with the Council's intent, regulations governing use of golden tilefish longline endorsements.

Timetable:

Action | Date | FR Cite
NPRM | 09/00/15 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BE70

40. • Modification of the Temperature-Dependent Component of the Pacific Sardine Harvest Guideline Control Rule To Incorporate New Scientific Information

Legal Authority: 16 U.S.C. 1801 et seq.

Abstract: Pursuant to a recommendation of the Pacific Fishery Management Council (Council) under the Magnuson-Stevens Act, NMFS is proposing to use a new temperature index to calculate the temperature parameter of the Pacific sardine harvest guideline control rule under the Fishery Management Plan. The harvest guideline control rule, in conjunction with the overfishing limit and acceptable biological catch control rules, is used to set annual harvest levels for Pacific sardine. The temperature parameter is calculated annually. NMFS determined that a new temperature index is more statistically sound and this action will adopt that index. This action will also revise the upper temperature limit to allow for additional sardine harvest where prior guidelines set catch unnecessarily low.

Timetable:

Action | Date | FR Cite
NPRM | 07/00/15 |

Regulatory Flexibility Analysis Required: Yes.

Agency Contact: William Stelle Jr., Regional Administrator, West Coast Region, Department of Commerce, National Oceanic and Atmospheric Administration, 7600 Sand Point Way Northeast, Building 1, Seattle, WA 98115, Phone: 206 526-6150, Email: will.stelle@noaa.gov.

RIN: 0648-BE77

41. • Modification of the Daily Bag Limits and To Establish At-Sea Fillet Requirements for the U.S. West Coast Recreational Pacific Bluefin Tuna Fishery

Legal Authority: 16 U.S.C. 1801 et seq.

Abstract: This action would implement regulations recommended by the Pacific Fishery Management Council that would impose a two-fish daily bag limit, with a maximum multi-day possession limit of six fish, for recreational harvest of north Pacific bluefin tuna. The daily bag and possession limits would apply to U.S. anglers fishing in the exclusive economic zone of the U.S. West Coast and/or in Mexicos waters and returning to U.S. ports. The rule is expected to reduce mortality on north Pacific bluefin tuna and contribute to the recovery of the stock, which is overfished and subject to overfishing.

Timetable:

Action | Date | FR Cite
NPRM | 07/00/15 |

Regulatory Flexibility Analysis Required: Yes.

Agency Contact: William Stelle Jr., Regional Administrator, West Coast Region, Department of Commerce, National Oceanic and Atmospheric Administration, 7600 Sand Point Way Northeast, Building 1, Seattle, WA 98115, Phone: 206 526-6150, Email: will.stelle@noaa.gov.

RIN: 0648-BE78

42. • 2015-2016 Atlantic Bluefin Tuna Quotas

Legal Authority: 16 U.S.C. 1801 et seq.; 16 U.S.C. 971 et seq.

Abstract: This rule would increase the Atlantic bluefin tuna base quotas and subquotas, implementing the U.S. annual Atlantic Bluefin Tuna quota recommended for 2015 and 2016 by the International Commission for the Conservation of Atlantic Tunas and allocating that quota among the domestic fishing categories.

Timetable:

Action | Date | FR Cite
NPRM | 07/00/15 |

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596, Email: alan.risenhoover@noaa.gov.

RIN: 0648-BE81

43. • Revision of Skate Maximum Retainable Amounts in the Gulf of Alaska Groundfish Fishery

Legal Authority: 16 U.S.C. 1801 et seq.

Abstract: This proposed rule would reduce the maximum retainable amount of incidentally caught skates in directed fisheries for groundfish in the Gulf of Alaska to 5 percent, which would allow a vessel to retain skates in an amount up to 5 percent of the weight of the target groundfish species onboard the vessel. The skate maximum retainable amount is intended to limit harvest of skates to the intrinsic rate of incidental catch of skates in Gulf of Alaska groundfish fisheries and to provide a disincentive for vessels to target skates. Skate harvests have increased in recent years and have exceeded the acceptable biological catch in some areas. The proposed action is necessary to enhance conservation and management of skates by decreasing the incentive for vessels to target skates and to slow the harvest rate of skates.

Timetable:

Action | Date | FR Cite
NPRM | 07/00/15 |

Regulatory Flexibility Analysis Required: Yes.

Agency Contact: James Balsiger, Regional Administrator, Alaska Region, Department of Commerce, National Oceanic and Atmospheric Administration, 709 West Ninth Street, Juneau, AK 99801, Phone: 907 586-7221, Fax: 907-586-7465, Email: jim.balsiger@noaa.gov.

RIN: 0648-BE85

44. • 2015 Summer Flounder, Scup, and Black Sea Bass Recreational Harvest Measures

Legal Authority: 16 U.S.C. 1801 et seq.

Abstract: This rule would propose management measures such as recreational possession limits, minimum fish sizes, and seasonal closures to achieve recreational harvest limits for the 2015 summer flounder, scup, and black sea bass recreational fisheries. The recreational harvest limits for these species have been established in a separate rulemaking. This rule proposes the management measures the Council has recommended to help ensure recreational harvest is constrained to those harvest limits.

Timetable:

Action | Date | FR Cite
NPRM | 07/00/15 |

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BE89

45. • Pacific Coast Groundfish Fishing Capacity Reduction Loan Refinance (Section 610 Review)

Legal Authority: 16 U.S.C. 1861 et seq.

Abstract: NMFS plans to issue proposed regulations to refinance the voluntary fishing capacity reduction loan program implemented in 2004 in the Pacific Coast groundfish Federal limited-entry trawl, Washington coastal Dungeness crab, and California pink shrimp fisheries (collectively known as the refinanced reduction fisheries). The refinance loan of up to $30 million will establish a new industry fee system for future landings of the refinanced reduction fisheries. Upon publishing a final rule and receipt of an appropriation, NMFS will conduct three referenda to refinance the existing debt obligation in each of the refinanced reduction fisheries. If a referendum in one, two, or all three of the fisheries is successful, that fisherys current loan will be repaid in full and a new loan in the amount of the principal and interest balance as of the date of funding will be issued. The terms were prescribed in the 2015 National Defense Authorization Act and include a 45-year term to maturity, interest charged at a current Treasury interest rate, and a maximum repayment fee of 3% of ex-vessel value.

Timetable:

Action | Date | FR Cite
NPRM | 05/00/15 |
Final Action | 08/00/15 |

Regulatory Flexibility Analysis Required: Yes.

Agency Contact: Brian Pawlak, Department of Commerce, National Oceanic and Atmospheric Administration, 1315 East-West Highway, Silver Spring, MD 20910, Phone: 301 427-8621, Email: brian.t.pawlak@noaa.gov.

RIN: 0648-BE90

46. • Amendment 44 to the Fishery Management Plan for Bering Sea/Aleutian Islands King and Tanner Crabs To Modify Right of First Refusal Provisions of the Crab Rationalization Program

Legal Authority: 16 U.S.C. 1862 et seq.; Pub. L. 109-241; Pub. L. 109-479

Abstract: This rule would amend the Bering Sea and Aleutian Islands Crab Rationalization Program through two actions. The first action would modify right of first refusal provisions that provide eligible crab community entities with the opportunity to purchase processor quota shares and other associated assets proposed for sale. The first action would extend the amount of time allowed for eligible crab community entities to exercise and perform a right of first refusal contract; remove or modify provisions that allow the right of first refusal to lapse under specific conditions; provide flexibility for eligible crab community entities and processor quota shareholders to apply a right of first refusal only to mutually-agreed upon assets; and revise reporting requirements for pending transfers of processor quota share. The second action would amend regulations to separate the combined individual fishing quota/individual processor quota application into two applications, and revise reporting requirements for crab cooperatives. The actions are intended to benefit eligible crab communities by enhancing opportunities to retain community historical processing interests in the Bering Sea and Aleutian Islands crab fisheries, and improve the administration of the Crab Rationalization Program. The first action would affect about 21 processor quota share holders. The rule would require all persons holding processor quota share to provide a new annual notification to NOAA Fisheries Service regarding the status of right of first refusal for all processor quota share holdings. The second action would make minor administrative regulatory amendments to clarify permit application procedures and reporting requirements for individual fishing quota holders and individual processor quota share holders. These amendments would not implement additional regulatory requirements for affected participants.

Timetable:

Action | Date | FR Cite
NPRM | 07/00/15 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BE98

NOS/ONMS

47. Revisions to Hawaiian Islands Humpback Whale National Marine Sanctuary Regulations

Legal Authority: 16 U.S.C. 1431 et seq.; Pub. L. 102-587

Abstract: In 2010, the Office of National Marine Sanctuaries (ONMS) initiated a review of the Hawaiian Islands Humpback Whale National Marine Sanctuary management plan, to evaluate substantive progress toward implementing the goals for the sanctuary, and to make revisions to its management plan and regulations as necessary to fulfill the purposes and policies of the National Marine Sanctuaries Act (NMSA) and the Hawaiian Islands National Marine Sanctuary Act (HINMSA; Title II, Subtitle C, Pub. L. 102587). ONMS intends to publish a proposed rule and draft EIS that proposes to expand the scope of the sanctuary to ecosystem based management rather than concentrating on only humpback whales. In addition, possible boundary expansion will be discussed.

Timetable:

Action | Date | FR Cite
Notice | 07/14/10 | 75 FR 40759
NPRM | 07/00/15 |

Regulatory Flexibility Analysis Required: Yes.

Agency Contact: Edward Lindelof, Department of Commerce, National Oceanic and Atmospheric Administration, 1315 East-West Highway, Silver Spring, MD 20910, Phone: 301 713-3137, Email: edward.lindelof@noaa.gov.

RIN: 0648-BD97

DEPARTMENT OF COMMERCE (DOC)

National Oceanic and Atmospheric Administration (NOAA)

Final Rule Stage

National Marine Fisheries Service

48. Fishery Management Plan for Regulating Offshore Marine Aquaculture in the Gulf of Mexico

Legal Authority: 16 U.S.C. 1801 et seq.

Abstract: The purpose of this fishery management plan is to develop a regional permitting process for regulating and promoting environmentally sound and economically sustainable aquaculture in the Gulf of Mexico exclusive economic zone. This fishery management plan consists of 10 actions, each with an associated range of management alternatives, which would facilitate the permitting of an estimated 5 to 20 offshore aquaculture operations in the Gulf of Mexico over the next 10 years, with an estimated annual production of up to 64 million pounds. By establishing a regional permitting process for aquaculture, the Gulf of Mexico Fishery Management Council will be positioned to achieve their primary goal of increasing maximum sustainable yield and optimum yield of federal fisheries in the Gulf of Mexico by supplementing harvest of wild caught species with cultured product. This rulemaking would outline a regulatory permitting process for aquaculture in the Gulf of Mexico, including: (1) Required permits, (2) duration of permits, (3) species allowed, (4) designation of sites for aquaculture; (5) reporting requirements, and (6) regulations to aid in enforcement.

Timetable:

Action | Date | FR Cite
Notice of Availability | 06/04/09 | 74 FR 26829
NPRM | 08/28/14 | 79 FR 26829
NPRM Comment Period Reopened | 11/13/14 | 79 FR 67411
Final Action | 11/00/15 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-AS65

49. Atlantic Highly Migratory Species; Future of the Atlantic Shark Fishery

Legal Authority: 16 U.S.C. 1801 et seq.; 16 U.S.C. 971 et seq.

Abstract: The National Marine Fisheries Service is considering adjusting the regulations governing the U.S. Atlantic shark fishery to address current fishery issues and to identify specific shark fishery goals for the future. This action will consider potential changes to the quota and/or permit structure that are currently in place for the Atlantic shark fishery, and various catch share programs such as limited access privilege programs, individual fishing quotas, and sectors for the Atlantic shark fishery.

Timetable:

Action | Date | FR Cite
ANPRM | 09/20/10 | 75 FR 57235
ANPRM Comment Period End | 01/14/11 |
Notice | 05/27/14 | 79 FR 30064
NPRM | 01/20/15 | 80 FR 2648
Notice | 03/09/15 | 80 FR 12394
Final Action | 09/00/15 |

Regulatory Flexibility Analysis Required: No.

Agency Contact: Alan Risenhoover, Director, Office of Sustainable Fisheries, Department of Commerce, National Oceanic and Atmospheric Administration, Room 13362, 1315 East-West Highway, Silver Spring, MD 20910, Phone: 301 713-2334, Fax: 301 713-0596, Email: alan.risenhoover@noaa.gov.

RIN: 0648-BA17

50. Implement the 2010 Shark Conservation Act Provisions and Other Regulations in the Atlantic Smoothhound Shark Fishery

Legal Authority: 16 U.S.C. 1801 et seq.

Abstract: This rule considers implementing the provisions of the 2010 Shark Conservation Act and other regulations in the Atlantic Smoothhound Fishery (which includes smooth dogfish and the Florida smoothhound). Specifically, this action would (1) modify regulations for smooth dogfish as needed to be consistent with the Shark Conservation Act, (2) consider other management measures, as needed, including the Terms and Conditions of the Endangered Species Act Smoothhound Biological Opinion, and (3) consider revising the current smoothhound shark quota based on updated catch data.

Timetable:

Action | Date | FR Cite
NPRM | 08/07/14 | 79 FR 46217
Final Action | 10/00/15 |

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596, Email: alan.risenhoover@noaa.gov.

RIN: 0648-BB02

51. Amendment 7 to the 2006 Consolidated Highly Migratory Species Fishery Management Plan

Legal Authority: 16 U.S.C. 1801 et seq.; 16 U.S.C. 971 et seq.

Abstract: Amendment 7 focused on bluefin tuna fishery management issues consistent with the need to end overfishing and rebuild the stock. Measures in Amendment 7 addressed several of the long-standing challenges facing the fishery and analyzed, among other things, revisiting quota allocations; reducing and accounting for dead discards; adding or modifying time/area closures or gear-restricted areas; and improving the reporting and monitoring of dead discards and landings in all categories.

Timetable:

Action | Date | FR Cite
Notice | 04/23/12 | 77 FR 24161
Notice | 06/08/12 | 77 FR 34025
NPRM | 08/21/13 | 78 FR 52032
NPRM Comment Period Extended | 09/18/13 | 78 FR 57340
Public Hearing | 11/05/13 | 78 FR 66327
NPRM Comment Period Reopened | 12/11/13 | 78 FR 75327
Public Hearing | 12/26/13 | 78 FR 78322
Final Rule | 12/02/14 | 79 FR 71509
Notice of Public Webinars | 12/16/14 | 79 FR 74652
Final Rule | 12/30/14 | 79 FR 78310
Final Rule | 02/04/15 | 80 FR 5991
Final Rule Effective | 02/04/15 |
Final Action-Next Stage Undetermined | 08/00/15 |

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596, Email: alan.risenhoover@noaa.gov.

RIN: 0648-BC09

52. Amendment 43 to the FMP for BSAI King and Tanner Crabs and Amendment 103 to the FMP for Groundfish of the BSAI

Legal Authority: 16 U.S.C. 1801 et seq.

Abstract: This rule implements both Amendment 43 to the Fishery Management Plan for the Bering Sea/Aleutian Islands King and Tanner Crabs and Amendment 103 to the Fishery Management Plan for Groundfish of the Bering Sea and Aleutian Islands Management Area. Amendment 43 revised the current rebuilding plan for Pribilof Islands blue king crab (blue king crab) and Amendment 103 implemented groundfish fishing restrictions. A no-trawl Pribilof Islands Habitat Conservation Zone (Zone) was established in 1995 and the directed fishery for blue king crab has been closed since 1999. A rebuilding plan was implemented in 2003; however, blue king crab remains overfished and the current rebuilding plan has not achieved adequate progress towards rebuilding the stock by 2014. The rule closed the Zone to all Pacific cod pot fishing in addition to the current trawl prohibition. This measure will help support blue king crab rebuilding and prevent exceeding the overfishing limit of blue king crab by minimizing to the extent practical blue king crab bycatch in the groundfish fisheries.

Timetable:

Action | Date | FR Cite
Notice | 08/21/14 | 79 FR 49463
NPRM | 08/29/14 | 79 FR 51520
NPRM Comment Period End | 09/29/14
Final Action | 12/00/15

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BC34

53. Pacific Coast Groundfish Trawl Rationalization Program Trailing Action: Rule To Modify Chafing Gear Regulations for Midwater Trawl Gear Used in the Pacific Coast Groundfish Fishery

Legal Authority: 16 U.S.C. 1801 et seq.

Abstract: This action modified the existing chafing gear regulations for midwater trawl gear, and includes housekeeping measures to clarify which vessels can use midwater trawl gear and where midwater trawl gear can be used. This action includes regulations that affect all trawl sectors (Shorebased Individual Fishing Quota Program, Mothership Cooperative Program, Catcher/Processor Cooperative Program, and tribal fishery) managed under the Pacific Coast Groundfish Fishery Management Plan.

Timetable:

Action | Date | FR Cite
NPRM | 03/19/14 | 79 FR 15296
NPRM Correction Notice | 04/04/14 | 79 FR 18876
Final Action | 12/00/15

Regulatory Flexibility Analysis Required: Yes.

Agency Contact: William Stelle Jr., Regional Administrator, West Coast Region, Department of Commerce, National Oceanic and Atmospheric Administration, 7600 Sand Point Way Northeast, Building 1, Seattle, WA 98115, Phone: 206 526-6150, Email: will.stelle@noaa.gov.

RIN: 0648-BC84

54. Codifying the Initial Vessel Monitoring System Type-Approval Process and Requirements, and the Recertification and Revocation Processes

Legal Authority: 16 U.S.C. 1801 et seq.

Abstract: All vessels participating in the National Oceanic and Atmospheric Administration's Vessel Monitoring System program are required to use a National Marine Fisheries Service-approved transmitting unit. This rule will codify into regulations the unit type-approval standards, requirements, and procedures for vendors to maintain approval for their products and services. The rule also codifies requirements for agency approval, subsequent assessments, a renewal process, and procedures for revoking a unit's approval if the vendor fails to comply with the performance requirements. The current national process regarding unit type-approval requirements for evaluating performance and improving or revoking unit type approvals is not codified. Therefore, the purpose of this rule is to codify the approval process, improve the enforceability of the approval requirements, and better ensure all unit type approvals remain in compliance and are consistent with the requirements. To eliminate the possibility of duplicating, overlapping, or conflicting Federal regulations, this rule would revise the Greater Atlantic Region's regulations to match those in this rule.

Timetable:

Action | Date | FR Cite
NPRM | 09/09/14 | 79 FR 53386
Final Rule | 12/24/14 | 79 FR 77399
Final Action | 07/00/15

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596, Email: alan.risenhoover@noaa.gov.

RIN: 0648-BD02

55. Pacific Coast Groundfish Trawl Rationalization Program Trailing Actions: Permitting Requirements for Observer and Catch Monitor Providers

Legal Authority: 16 U.S.C. 1801 et seq.

Abstract: This action would modify regulations pertaining to certified catch monitors and observers required under the Pacific Coast Groundfish Fishery Management Plan. The action specifies permitting requirements for business entities interested in providing certified observers and catch monitor services, as well as addresses numerous housekeeping measures and updates observer provider and vessel responsibilities relative to observer safety such that the regulations are consistent with the Coast Guard and Maritime Transportation Act of 2012.

Timetable:

Action | Date | FR Cite
NPRM | 02/19/14 | 79 FR 9591
Final Action | 07/00/15

Regulatory Flexibility Analysis Required: Yes.

Agency Contact: William Stelle Jr., Regional Administrator, West Coast Region, Department of Commerce, National Oceanic and Atmospheric Administration, 7600 Sand Point Way Northeast, Building 1, Seattle, WA 98115, Phone: 206 526-6150, Email: will.stelle@noaa.gov.

RIN: 0648-BD30

56. Amendment 97 to the Fishery Management Plan for Groundfish of the Gulf of Alaska To Establish Chinook Salmon Prohibited Species Catch Limits for the Non-Pollock Trawl Fisheries

Legal Authority: 16 U.S.C. 1801 et seq.; 16 U.S.C. 773 et seq.

Abstract: This rule limits Chinook salmon prohibited species catch in the Western and Central Gulf of Alaska non-pollock trawl fisheries. Chinook salmon is a fully utilized species in Alaska coastal subsistence, recreational, and commercial fisheries. In recent years the returns of Chinook salmon to some Alaska river systems have been below the biological escapement goals established by the State of Alaska. This action is necessary to minimize the catch of Chinook salmon to the extent practicable in the Gulf of Alaska non-pollock trawl fisheries. This action would limit the annual Chinook salmon prohibited species catch in the non-pollock trawl fisheries to 7,500 salmon each year. If a sector reached its Chinook salmon prohibited species limit, further directed fishing for groundfish by vessels in that sector and season would be prohibited. Vessel operators would be required to retain salmon until the number of salmon has been determined by the vessel or plant observer and the observers data collection has been completed. About 70 vessels could be affected by this action. This action could reduce revenues from the fisheries, if the Chinook salmon prohibited species limit is reached before the groundfish quota is harvested. The action also may increase costs if vessel operators move fishing operations or take other actions to lower their catch of Chinook salmon.

Timetable:

Action | Date | FR Cite
Notice | 06/05/14 | 79 FR 32525
NPRM | 06/25/14 | 79 FR 35971
Final Action | 12/00/15

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BD48

57. Implementation of the Inter-American Tropical Tuna Commission Resolution To Establish a Vessel Monitoring System Program in the Eastern Pacific Ocean

Legal Authority: 16 U.S.C. 1801 et seq.; 16 U.S.C. 951 et seq.

Abstract: This rule would implement the Inter-American Tropical Tuna Commissions Resolution intended to require owners and operators of tuna-fishing vessels to have installed, activate, carry and operate vessel monitoring system units (also known as mobile transmitting units). This regulation would apply to owners and operators of tuna-fishing vessels 24 meters or more in length operating in the eastern Pacific Ocean. The vessel monitoring system units would have to be type-approved and authorize the Inter-American Tropical Tuna Commission and National Marine Fisheries Service to receive and relay transmissions (also called position reports) from the vessel monitoring system unit. Vessel monitoring systems may enhance the safety of some vessels by allowing the vessels location to be tracked, which could assist in rescue efforts. This regulation would apply to commercial vessels and would not apply to recreational or charter vessels. This rule would apply to approximately seventy-four vessels, however, roughly thirty-eight of these vessels are already subject to vessel monitoring system requirements under the Western and Central Pacific Fisheries Commission. Due to the relatively small number of vessels affected, this rule is not expected to garner public opposition or congressional interest.

Timetable:

Action | Date | FR Cite
NPRM | 02/06/14 | 79 FR 7152
Correction | 02/25/14 | 79 FR 10465
Final Action | 07/00/15

Regulatory Flexibility Analysis Required: Yes.

Agency Contact: William Stelle Jr., Regional Administrator, West Coast Region, Department of Commerce, National Oceanic and Atmospheric Administration, 7600 Sand Point Way Northeast, Building 1, Seattle, WA 98115, Phone: 206 526-6150, Email: will.stelle@noaa.gov.

RIN: 0648-BD54

58. Amendment 45 to the Fishery Management Plan for Bering Sea and Aleutian Islands King and Tanner Crab Freezer Longline Catcher/Processor Pacific Cod Sideboard Removal

Legal Authority: 16 U.S.C. 1801 et seq.

Abstract: This rule would establish conditions for the removal of Gulf of Alaska Pacific cod catch limits, known as sideboards, which apply to some catcher/processor vessels using hook-and-line gear, also known as freezer longliners. The newly reorganized sideboard limits have effectively eliminated the ability of these stakeholders to participant in these Gulf of Alaska fisheries. The rule would remove the Gulf of Alaska Pacific cod sideboards from six freezer longline vessels if owners of vessels endorsed to catch and process Pacific cod in the Western Gulf of Alaska, Central Gulf of Alaska, or both (a total of nine vessels) agree to removal of the sideboards, within one year from the effective date of a final rule. If an agreement is not reached by the deadline, the sideboarded vessels would not be able to participate in the Gulf of Alaska fisheries. The requirement for an agreement is intended to promote cooperation among all affected parties prior to the removal of sideboards.

Timetable:

Action | Date | FR Cite
Notice of Availability | 02/02/15 | 80 FR 5499
NPRM | 02/12/15 | 80 FR 7817
Final Action | 07/00/15 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BD61

59. Information Collection Program for Atlantic Surfclam and Ocean Quahog Fisheries

Legal Authority: 16 U.S.C. 1801 et seq.

Abstract: The National Marine Fisheries Service is implementing this information collection program at the request of the Mid-Atlantic Fishery Management Council (Council). This program will collect additional information about the individuals who hold and/or control Individual Transferable Quota in the Atlantic surfclam and ocean quahog fisheries. This information will be used by the Council in the consideration and development of excessive shares cap(s) in these Individual Transferable Quota fisheries.

Timetable:

Action | Date | FR Cite
NPRM | 08/07/14 | 79 FR 46233
NPRM Comment Period Reopened | 10/02/14 | 79 FR 59472
Final Action | 07/00/15

Regulatory Flexibility Analysis Required: No.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BD64

60. Amendment 8 to the Fishery Management Plan for Coral, Coral Reefs, and Live/Hard Bottom Habitats of the South Atlantic Region

Legal Authority: 16 U.S.C. 1801 et seq.

Abstract: Coral Amendment 8 would modify the boundaries of the Oculina Bank Habitat Area of Particular Concern, the Stetson-Miami Terrace Coral Habitat Area of Particular Concern, and the Cape Lookout Coral Habitat Area of Particular Concern to protect deepwater coral ecosystems. The amendment also proposes to implement a transit provision through the Oculina Bank Habitat Area of Particular Concern for fishing vessels with rock shrimp onboard.

Timetable:

Action | Date | FR Cite
Notice | 05/20/14 | 79 FR 28880
NPRM | 06/03/14 | 79 FR 31907
Correction | 07/01/14 | 79 FR 37269
Final Action | 07/00/15

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD81

61. Amendment 100 to the FMP for Groundfish of the BSAI Management Area and Amendment 91 to the FMP for Groundfish of the Gulf of Alaska To Add Grenadiers to the Ecosystem Component Category

Legal Authority: 16 U.S.C. 1801 et seq.

Abstract: Amendments 100 and 91 amended the Groundfish Fishery Management Plans to add grenadiers to the ecosystem component category. Grenadiers are caught incidentally in the groundfish fisheries and adding them to the Fishery Management Plans recognizes their role in the ecosystem. The National Marine Fisheries Service also implemented regulations for federally-permitted groundfish fishermen to improve reporting of grenadiers, limit retention, and prevent directed fishing for grenadiers. This action was necessary to limit the groundfish fisheries impact on grenadiers.

Timetable:

Action | Date | FR Cite
Notice of Availability | 05/05/14 | 79 FR 25558
NPRM | 05/14/14 | 79 FR 27557
Final Action | 03/05/15 | 80 FR 11897
Final Action Effective | 04/06/15
Next Action Undetermined | 07/00/15

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BD98

62. Implementation of a Gulf of Alaska Trawl Fishery Economic Data Collection Program

Legal Authority: 16 U.S.C. 1801 et seq.; 16 U.S.C. 3631 et seq.; 16 U.S.C. 773 et seq.; Pub. L. 108199

Abstract: The National Marine Fisheries Service implemented the Trawl Economic Data Report Program to evaluate the economic effects of current and future groundfish and prohibited species catch management measures for the Gulf of Alaska trawl fisheries under the Fishery Management Plan for Groundfish of the Gulf of Alaska. This data collection program was necessary to provide the North Pacific Fishery Management Council and other analysts with baseline information on affected harvesters, crew, processors, and communities in the Gulf of Alaska that could be used to assess the impacts of major changes in the groundfish management regime, including catch share programs for prohibited species catch species and target species. The data collected, which may include labor information, revenues received, capital and operational expenses, and other operational or financial data for this program will be submitted by vessel owners and leaseholders of Gulf of Alaska trawl vessels, processors receiving deliveries from those trawl vessels, and Amendment 80 catcher/processors.

Timetable:

Action | Date | FR Cite
NPRM | 08/11/14 | 79 FR 46758
Final Action | 12/00/15

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BE09

63. Regulatory Amendment To Change the Definition of Sport Fishing Guide Services for Pacific Halibut in International Pacific Halibut Commission Area 2C and Area 3A

Legal Authority: 16 U.S.C. 773 et seq.

Abstract: The National Marine Fisheries Service proposes regulations that would revise Federal regulatory text regarding sport fishing guide services for Pacific halibut in International Pacific Halibut Commission Regulatory Areas 2C (Southeast Alaska) and 3A (Central Gulf of Alaska) to remove the requirement that a charter vessel guide be on board the same vessel as a charter vessel angler to provide sport fishing guide services. The action would clarify that all sport fishing in which anglers receive assistance from a compensated guide will be managed under charter fishery regulations, and all harvest will accrue toward charter allocations. This action would align Federal regulations with State of Alaska regulations. If approved, the definition of sport fishing guide services would be revised and a definition for compensation would be added to Federal regulations. Additional minor changes to the regulatory text pertaining to the charter halibut fishery would be required to maintain consistency in the regulations with these new definitions. This action is necessary to achieve the halibut fishery management goals of the North Pacific Fishery Management Council.

Timetable:

Action | Date | FR Cite
NPRM | 12/03/14 | 79 FR 71729
Final Action | 07/00/15

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BE41

64. Framework Action To Revise Recreational Accountability Measures for Red Snapper

Legal Authority: 16 U.S.C. 1801 et seq.

Abstract: To address the court ruling in Guindon v. Pritzker, the Gulf of Mexico Fishery Management Council developed this framework action that would establish two accountability measures for the recreational red snapper sector. The first recreational accountability measure action established an annual catch target that is lower than the quota/annual catch limit and set the recreational season length based on the annual catch target. Previously, the season length was set based on the quota/annual catch limit. The second recreational accountability measure action was to establish an overage adjustment to mitigate the effects of any overage by reducing the quota/annual catch limit in the following year.

Timetable:

Action | Date | FR Cite
NPRM | 11/21/14 | 79 FR 69418
Final Action | 07/00/15

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BE44

65. Amendment 16 to the Fishery Management Plan for the Shrimp Fishery of the Gulf of Mexico, U.S. Waters

Legal Authority: 16 U.S.C. 1801 et seq.

Abstract: This rule would change the annual catch limit and select an accountability measure for royal red shrimp. On January 30, 2012, the National Marine Fisheries Service implemented regulations developed through a generic annual catch limit and accountability measure amendment to multiple fishery management plans, including the Shrimp Fishery Management Plan. The rule would remove the quota and in-season closure, and increase the annual catch limit. The current accountability measure, which requires in-season monitoring and closure the year following an annual catch limit overage, will remain in effect.

Timetable:

Action | Date | FR Cite
Notice of Availability | 12/24/14 | 79 FR 77425
NPRM | 01/26/15 | 80 FR 3937
Final Action | 07/00/15

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BE46

66. Amendment 40 to the Fishery Management Plan for the Reef Fish Resources of the Gulf of Mexico

Legal Authority: 16 U.S.C. 1801 et seq.

Abstract: This rule would define distinct private angling and federal for-hire components of the recreational red snapper fishery and allocate red snapper resources between the components of the recreational sector to increase stability for the for-hire component; provide a basis for increased flexibility in future management of the recreational sector; and minimize the chance for recreational quota overruns, which could jeopardize the rebuilding of the red snapper stock. More specifically, this action would define the components of the recreational sector and establish the baseline allocation, how the allocation would be adjusted if membership in the federal for-hire component is voluntary, and recreational season closure provisions for each component.

Timetable:

Action | Date | FR Cite
Notice of Availability | 01/16/15 | 80 FR 2379
NPRM | 01/23/15 | 80 FR 3541
Final Action | 07/00/15

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BE47

67. 2015-2017 Specifications and Management Measures for the Atlantic Mackerel, Squid, and Butterfish Fisheries

Legal Authority: 16 U.S.C. 1801 et seq.

Abstract: This rule would establish catch levels and associated management measures for the 2015-2017 fishing years for species managed under the Atlantic Mackerel, Squid, and Butterfish Fishery Management Plan. More specifically, this action would: Renew status quo quotas on longfin and Illex squids for an additional three years; lower the cap on river herring and shad catch in the mackerel fishery; increase the cap on river herring and shad catch in the mackerel fishery once the mackerel fishery catches more than 10,000 mt tons; lower the Atlantic mackerel quota; substantially increase the butterfish quota; and simplify the controls on butterfish daily trip limits.

Timetable:

Action | Date | FR Cite
NPRM | 11/14/14 | 79 FR 68202
Final Action | 07/00/15

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BE49

68. • Framework Adjustment 26 to the Atlantic Sea Scallop Fishery Management Plan (Section 610 Review)

Legal Authority: 16 U.S.C. 1801 et seq.

Abstract: This rule would set scallop fishery management measures for the 2015 fishing year, including the annual catch limits and annual catch targets for the limited access and limited access general category fleets. In addition, it would adjust the State Waters Exemption Program, allow for vessel monitoring system declaration changes for when vessels return home with product on board; implement a proactive accountability measure to protect flatfish; align two gear measures designed to protect sea turtles; and implement other measures to improve the management of the scallop fishery. Furthermore, aligning the gear designed to protect sea turtles involves modifying regulations to threatened marine species at 50 CFR part 223, so this action will be a joint action with the Endangered Species Act.

Timetable:

Action | Date | FR Cite
NPRM | 03/17/15 | 80 FR 13806
Final Action | 07/00/15

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BE68

69. Designation of Critical Habitat for the North Atlantic Right Whale

Legal Authority: 16 U.S.C. 1361 et seq.; 16 U.S.C. 1531 et seq.

Abstract: The National Marine Fisheries Service (NMFS) proposes to revise the critical habitat designation for the North Atlantic right whale. This proposal would result in a significant expansion of critical habitat in the northeast feeding area (Gulf of Maine-Georges Bank region) and the southeast calving area (Florida to North Carolina) compared to what was designated in 1994 for right whales. NMFS has contacted the Departments of the Navy, Air Force, and Army, as well as the U.S. Coast Guard and the Department of Homeland Security requesting information related to potential national security impacts related to critical habitat designation. Based on information provided, we have concluded that there will be no national security impacts associated with the designation of critical habitat.

Timetable:

Action | Date | FR Cite
NPRM | 02/20/15 | 80 FR 9313
Final Action | 02/00/16

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-AY54

70. Revision of Hawaiian Monk Seal Critical Habitat

Legal Authority: 16 U.S.C. 1531 et seq.

Abstract: The National Marine Fisheries Service (NMFS) is developing a rule to designate critical habitat for the Hawaiian monk seal in the main and Northwestern Hawaiian Islands. In response to a 2008 petition from the Center for Biological Diversity, Kahea, and the Ocean Conservancy to revise Hawaiian monk seal critical habitat, NMFS published a proposed rule in June 2011 to revise Hawaiian monk seal critical habitat by adding critical habitat in the main Hawaiian Islands and extending critical habitat in the Northwestern Hawaiian Islands. Proposed critical habitat includes both marine and terrestrial habitats (e.g., foraging areas to 500 meter depth, pupping beaches, etc.). To address public comments on the proposed rule, NOAA Fisheries is augmenting its prior economic analysis to better describe the anticipated costs of the designation. NOAA Fisheries is analyzing new tracking data to assess monk seal habitat use in the main Hawaiian Islands. That may lead to some reduction in foraging area critical habitat for the main Hawaiian Islands to better reflect where preferred foraging features may be found.

Timetable:

Action | Date | FR Cite
NPRM | 06/02/11 | 76 FR 32026
Notice of Public Meetings | 07/14/11 | 76 FR 41446
Other | 06/25/12 | 77 FR 37867
Final Action | 07/00/15

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BA81

71. Endangered and Threatened Species: Designation of Critical Habitat for Threatened Lower Columbia River Coho Salmon and Puget Sound Steelhead

Legal Authority: 16 U.S.C. 1531 et seq.

Abstract: This action will designate critical habitat for lower Columbia River coho salmon and Puget Sound steelhead, currently listed as threatened species under the Endangered Species Act. The areas proposed for designation include freshwater and estuarine habitat in Oregon and Washington.

Timetable:

Action | Date | FR Cite
NPRM | 01/14/13 | 78 FR 2725
Final Action | 09/00/15

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BB30

72. Designation of Critical Habitat for the Arctic Ringed Seal

Legal Authority: 16 U.S.C. 1531 et seq.

Abstract: The National Marine Fisheries Service published a final rule to list the Arctic ringed seal as a threatened species under the Endangered Species Act (ESA) in December 2012. The ESA requires designation of critical habitat at the time a species is listed as threatened or endangered, or within one year of listing if critical habitat is not then determinable. This rulemaking would designate critical habitat for the Arctic ringed seal. The proposed critical habitat designation would be in the northern Bering, Chukchi, and Beaufort seas within the current range of the species.

Timetable:

Action | Date | FR Cite
NPRM | 12/03/14 | 79 FR 71714
Proposed Rule | 12/09/14 | 79 FR 73010
Notice of public hearings | 01/13/15 | 80 FR 1618
Comment Period Extended | 02/02/15 | 80 FR 5498
Final Action | 12/00/15 |

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BC56

73. 2015 Annual Determination To Implement the Sea Turtle Observer Requirement

Legal Authority: 16 U.S.C. 1531 et seq.

Abstract: Through the Annual Determination, the National Marine Fisheries Service (NMFS) identifies U.S. fisheries operating in the Atlantic Ocean, Gulf of Mexico, and Pacific Ocean that will be required to take observers upon NMFS request, pursuant to its authority under the Endangered Species Act. The purpose of observing identified fisheries is to learn more about sea turtle interactions in a given fishery, evaluate existing measures to prevent or reduce prohibited sea turtle takes, and to determine whether additional measures to implement the prohibition against sea turtle takes may be necessary. Fisheries identified in the 2015 Annual Determination will remain on the Annual Determination for a five-year period and are required to carry observers upon NMFS request until December 31, 2019.

Timetable:

Action | Date | FR Cite
NPRM | 10/22/14 | 79 FR 63066
Final Action | 07/00/15 |

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BE35

DEPARTMENT OF COMMERCE (DOC)

National Oceanic and Atmospheric Administration (NOAA)

Long-Term Actions

National Marine Fisheries Service

74. Comprehensive Fishery Management Plan for Puerto Rico

Legal Authority: 16 U.S.C. 1801 et seq.

Abstract: This comprehensive Puerto Rico Fishery Management Plan will incorporate, and modify as needed, federal fisheries management measures presently included in each of the existing species-based U.S. Caribbean Fishery Management Plans (Spiny Lobster, Reef Fish, Coral, and Queen Conch Fishery Management Plans) as those measures pertain to Puerto Rico exclusive economic zone waters. The goal of this action is to create a Fishery Management Plan tailored to the specific fishery management needs of Puerto Rico. If approved, this new Puerto Rico Fishery Management Plan, in conjunction with similar comprehensive Fishery Management Plans being developed for St. Croix and St. Thomas/St. John, will replace the Spiny Lobster, Reef Fish, Coral and Queen Conch Fishery Management Plans presently governing the commercial and recreational harvest in U.S. Caribbean exclusive economic zone waters.

Timetable:

Action | Date | FR Cite
NPRM | 12/00/16 |

Regulatory Flexibility Analysis Required: Yes.

Agency Contact: Roy E. Crabtree, Phone: 727 824-5305, Fax: 727 824-5308, Email: roy.crabtree@noaa.gov.

RIN: 0648-BD32

75. Comprehensive Fishery Management Plan for St. Croix

Legal Authority: 16 U.S.C. 1801 et seq.

Abstract: This comprehensive St. Croix Fishery Management Plan will incorporate, and modify as needed, federal fisheries management measures presently included in each of the existing species-based U.S. Caribbean Fishery Management Plans (Spiny Lobster, Reef Fish, Coral, and Queen Conch Fishery Management Plans) as those measures pertain to St. Croix exclusive economic zone waters. The goal of this action is to create a Fishery Management Plan tailored to the specific fishery management needs of St. Croix. If approved, this new St. Croix Fishery Management Plan, in conjunction with similar comprehensive Fishery Management Plans being developed for Puerto Rico and St. Thomas/St. John, will replace the Spiny Lobster, Reef Fish, Coral and Queen Conch Fishery Management Plans presently governing the commercial and recreational harvest in U.S. Caribbean exclusive economic zone waters.

Timetable:

Action | Date | FR Cite
NPRM | 12/00/16 |

Regulatory Flexibility Analysis Required: Yes.

Agency Contact: Roy E. Crabtree, Phone: 727 824-5305, Fax: 727 824-5308, Email: roy.crabtree@noaa.gov.

RIN: 0648-BD33

76. Comprehensive Fishery Management Plan for St. Thomas/St. John

Legal Authority: 16 U.S.C. 1801 et seq.

Abstract: This comprehensive St. Thomas/St. John Fishery Management Plan will incorporate, and modify as needed, federal fisheries management measures presently included in each of the existing species-based U.S. Caribbean Fishery Management Plans (Spiny Lobster, Reef Fish, Coral, and Queen Conch Fishery Management Plans) as those measures pertain to St. Thomas/St. John exclusive economic zone waters. The goal of this action is to create a Fishery Management Plan tailored to the specific fishery management needs of St. Thomas/St. John. If approved, this new St. Thomas/St. John Fishery Management Plan, in conjunction with similar comprehensive Fishery Management Plans being developed for St. Croix and Puerto Rico, will replace the Spiny Lobster, Reef Fish, Coral and Queen Conch Fishery Management Plans presently governing the commercial and recreational harvest in U.S. Caribbean exclusive economic zone waters.

Timetable:

Action | Date | FR Cite
NPRM | 12/00/16 |

Regulatory Flexibility Analysis Required: Yes.

Agency Contact: Roy E. Crabtree, Phone: 727 824-5305, Fax: 727 824-5308, Email: roy.crabtree@noaa.gov.

RIN: 0648-BD34

77. Designate Critical Habitat for the Hawaiian Insular False Killer Whale Distinct Population Segment

Legal Authority: 16 U.S.C. 1531 et seq.

Abstract: The proposed action, if approved, would designate critical habitat for the Hawaiian insular false killer whale distinct population segment, pursuant to section 4 of the Endangered Species Act. Proposed critical habitat would be designated in the main Hawaiian Islands as the Hawaiian insular false killer whales range is restricted from nearshore out to 140 km from the main Hawaiian Islands.

Timetable:

Action | Date | FR Cite
NPRM | 04/00/18 |

Regulatory Flexibility Analysis Required: Yes.

Agency Contact: Donna Wieting, Phone: 301 427-8400.

RIN: 0648-BC45

DEPARTMENT OF COMMERCE (DOC)

National Oceanic and Atmospheric Administration (NOAA)

Completed Actions

78. Inner Limit of the Exclusive Economic Zone Under the Magnuson-Stevens Fishery Conservation and Management Act

Legal Authority: 16 U.S.C. 1801 et seq.

Abstract: This action would define the term “inner limit of the exclusive economic zone” under the Magnuson-Stevens Fishery Conservation and Management Act (MSA). The MSA establishes sovereign rights and exclusive management authority over fishery resources of the U.S. Exclusive Economic Zone. The inner limit of the Exclusive Economic Zone is described as a line coterminous with the seaward boundary of each of the coastal states. The National Marine Fisheries Service (NMFS), as well as the U.S. Coast Guard and state partners, enforce Federal fishery regulations on the basis of the 3 nautical mile line (or 9 nautical miles in the case of Texas and the west coast of Florida) as it is represented on the National Oceanic and Atmospheric Administration (NOAA) charts. The use of a 3 nautical mile line has caused confusion when NOAA charts are updated because the baseline for establishing this line is ambulatory. NMFS proposes to clarify/correct this by defining this seaward boundary line to be a line established pursuant to the Submerged Lands Act.

Timetable:

Action | Date | FR Cite
Withdrawn | 03/09/15 |

Regulatory Flexibility Analysis Required: Yes.

Agency Contact: Alan Risenhoover, Director, Office of Sustainable Fisheries, Department of Commerce, National Oceanic and Atmospheric Administration, Room 13362, 1315 East-West Highway, Silver Spring, MD 20910, Phone: 301 713-2334, Fax: 301 713-0596, Email: alan.risenhoover@noaa.gov.

RIN: 0648-BC92

79. Regulatory Amendment 14 to the Fishery Management Plan for the Snapper-Grouper Fishery of the South Atlantic Region

Legal Authority: 16 U.S.C. 1801 et seq.

Abstract: The purpose of Regulatory Amendment 14 was to enhance socioeconomic benefits to fishermen and fishing communities that utilize the snapper-grouper fishery. Specifically, this rulemaking modified the fishing year for greater amberjack, increased the minimum size limit for hogfish, modified the fishing year for black sea bass, changed the commercial fishing season for vermilion snapper, modified the aggregate grouper bag limit, and revised the accountability measures for gag and vermilion snapper. Modifying the accountability measures for gag and vermilion snapper enhances consistency and accuracy in the approach taken when the annual catch limit is met or projected to be met for these species.

Timetable:

Action | Date | FR Cite
Notice | 04/17/13 | 78 FR 22846
Notice | 08/02/13 | 78 FR 46925
NPRM | 04/27/14 | 79 FR 22936
Final Action | 11/07/14 | 79 FR 66316
Final Action Effective | 12/08/14 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD07

80. Amendment 105 Bering Sea Flatfish Harvest Specifications Flexibility

Legal Authority: 16 U.S.C. 1801 et seq.

Abstract: This action was published with the intent to provide additional harvest opportunities to participants in Bering Sea and Aleutian Islands (BSAI) flatfish fisheries while (1) maintaining catch below the annual catch limits for these species and (2) ensuring that the maximum optimum yield for BSAI groundfish fisheries will not be exceeded. Specifically, Amendment 105 to the BSAI Fishery Management Plan established a process for Amendment 80 cooperatives and Western Alaska Community Development Quota groups to exchange harvest quota from one of the three flatfish species for an equivalent amount of quota of another species. In no case could the amount of fish exchanged exceed the annual catch limit, commonly known as the allowable biological catch, of that species. This action modified the annual harvest specification process to allow the North Pacific Fishery Management Council (Council) to establish the maximum amount of harvest quota that can be exchanged for each of the three flatfish species. This process allows the Council to establish a buffer below the allowable biological catch to account for management or socioeconomic considerations. Each participant can only exchange harvest quota up to three times per year.

Timetable:

Action | Date | FR Cite
Notice | 06/13/14 | 79 FR 33889
NPRM | 06/30/14 | 79 FR 36702
Final Action | 09/23/14 | 79 FR 56671
Final Action Effective | 10/23/14 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BD23

81. International Fisheries; Western and Central Pacific Fisheries for Highly Migratory Species; Fishing Restrictions Regarding the Oceanic Whitetip Shark, the Whale Shark, and the Silky Shark

Legal Authority: 16 U.S.C. 6901 et seq.

Abstract: This rule established regulations under authority of the Western and Central Pacific Fisheries Convention Implementation Act to implement decisions of the Commission for the Conservation and Management of Highly Migratory Fish Stocks in the Western and Central Pacific Ocean on fishing restrictions regarding the oceanic whitetip shark and the whale shark. The regulations applied to owners and operators of U.S. fishing vessels used for commercial fishing for highly migratory species in the area of application of the Convention on the Conservation and Management of Highly Migratory Fish Stocks in the Western and Central Pacific Ocean (Convention). The regulations for oceanic whitetip sharks prohibited the retention, transshipment, storage, or landing of oceanic whitetip sharks and would require the release of any oceanic whitetip shark as soon as possible after it is caught. The regulations for whale sharks prohibit setting a purse seine on a whale shark and would specify certain measures to be taken and reporting requirements in the event a whale shark is encircled in a purse seine net. This action was necessary for the United States to satisfy its obligations under the Convention, to which it is a Contracting Party.

Timetable:

Action | Date | FR Cite
NPRM | 08/22/14 | 79 FR 49745
Final Action | 02/19/15 | 80 FR 8807
Final Action Effective | 03/23/15 |

Regulatory Flexibility Analysis Required: Yes.

Agency Contact: Michael Tosatto, Regional Administrator, Pacific Islands Region, Department of Commerce, National Oceanic and Atmospheric Administration, 1845 Wasp Blvd., Bldg. 176, Honolulu, HI 96818, Phone: 808 725-5000, Email: michael.tosatto@noaa.gov.

RIN: 0648-BD44

82. Southern New England Effort Controls To Address Lobster Stock Rebuilding Measures

Legal Authority: 16 U.S.C. 1801 et seq.

Abstract: The National Marine Fisheries Service has made revisions to Federal American lobster regulations intended to assist in rebuilding the Southern New England lobster stock. The measures included trap reductions in Lobster Management Areas 2 and 3, a minimum carapace size increase for Lobster Management Area 3, mandatory v-notching of egg-bearing female lobster in Lobster Management Areas 2, 4, and 5, and seasonal closures in Lobster Management Areas 4, 5, and 6. These actions are recommended for Federal implementation by the Atlantic States Marine Fisheries Commission (Commission). The stock rebuilding measures were recommended by the Commission in consultation with some, but not all, Federal lobster permit holders through associated industry participation on the Commissions Lobster Conservation Management Teams. While this action could limit fishing effort and landings by Federal lobster permit holders in Southern New England, the implemented measures are consistent with those already implemented by the affected states.

Timetable:

Action | Date | FR Cite
ANPRM | 08/20/13 | 78 FR 51131
NPRM | 07/25/14 | 79 FR 43379
Final Action | 01/15/15 | 80 FR 2028
Final Action Effective | 05/01/15 |

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BD45

83. South Atlantic Coastal Migratory Pelagics Framework Action 2013 (Completion of a Section 610 Review)

Legal Authority: 16 U.S.C. 1801 et seq.

Abstract: Prior to the publication of this action, in the South Atlantic the transfer of harvested fish at sea was prohibited for any species under a commercial trip limit, and only two gillnets were allowed on a federally permitted Spanish mackerel vessel. In some instances the trip limit may have been exceeded with just one gillnet set, and the excess fish had to be discarded. Most of those discarded fish caught in gillnet gear die due to trauma caused during capture. This Framework Action allows a portion of a gillnet and its contents to be transferred from a vessel that has met the Spanish mackerel trip limit to another vessel that has not yet reached the trip limit. Allowing transfer at sea for federally permitted Spanish mackerel vessels using gillnet gear is intended to reduce dead discards and minimize waste when catch in one net exceeds the trip limit for the vessel. Additionally, the Framework Action modified the commercial trip limits for Atlantic king mackerel in the Florida east coast subzone. The previous system of trip limits could increase the rate of harvest causing the commercial sector to close before Lent, the most lucrative part of the fishing season. Therefore, the trip limit modifications that were implemented through the Framework Action are expected to help minimize lost opportunities to fish and optimize profitability in the king mackerel sector of the coastal migratory pelagics fishery.

Timetable:

Action | Date | FR Cite
NPRM | 03/19/14 | 79 FR 15293
Final Action | 11/19/14 | 79 FR 68802
Final Action Effective | 12/19/14 |

Regulatory Flexibility Analysis Required: Yes.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD58

84. Amendment 96 to the Fishery Management Plan for Groundfish of the Gulf of Alaska To Revise the Community Quota Entity Program

Legal Authority: 16 U.S.C. 1801 et seq.; 16 U.S.C. 773 et seq.

Abstract: Amendment 96 to the Fishery Management Plan for Groundfish of the Gulf of Alaska modified the halibut and sablefish Individual Fishing Quota Program regulations for management of community quota entities in the Gulf of Alaska. The action revised the Individual Fishing Quota Program by removing a restriction on community quota entities holdings of quota share. Removing this restriction provides community quota entities access to more affordable quota shares, which could enhance the ability of the community quota entities community to realize economic benefits from additional community resident participation in the halibut and sablefish fisheries.

Timetable:

Action | Date | FR Cite
Notice | 07/25/14 | 79 FR 43377
NPRM | 08/07/14 | 79 FR 46237
Final Action | 11/07/14 | 79 FR 66324
Final Action Effective | 12/08/14 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BD74

85. Amendment 20B to the Fishery Management Plan for the Coastal Migratory Pelagic Resources of the Gulf of Mexico and Atlantic Region

Legal Authority: 16 U.S.C. 1801 et seq.

Abstract: This rule adjusted trip limits and fishing seasons for zones and subzones of the Gulf migratory group king mackerel. It also allows transit of vessels with king mackerel on board through areas closed to king mackerel fishing and divides the annual catch limit for Atlantic migratory group king and Spanish mackerel into zones. Furthermore, the action addressed the results of the most recent stock assessment for cobia and divides the annual catch limit into zones. The action was needed to achieve optimum yield while ensuring regulations are fair and equitable and fishery resources are utilized efficiently.

Timetable:

Action | Date | FR Cite
Notice of Availability | 10/17/14 | 79 FR 62410
NPRM | 10/31/14 | 79 FR 64728
Final Rule | 01/27/15 | 80 FR 4216
Final Action—Correction Notice | 02/25/15 | 80 FR 10007
Final Action Effective | 03/01/15 |

Regulatory Flexibility Analysis Required: No.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD86

86. Temporary Rule Through Emergency Action To Revise Annual Catch Limits and Accountability Measures for Blueline Tilefish and the Deep-Water Complex in the South Atlantic Region

Legal Authority: 16 U.S.C. 1801 et seq.

Abstract: In October 2013, the National Marine Fisheries Service (NMFS) determined the blueline tilefish stock in the South Atlantic was experiencing overfishing and is overfished. As mandated by Magnuson-Stevens Fishery Conservation and Management Act, NMFS and the Council prepared and implemented a plan amendment and regulations to end overfishing immediately and rebuild the stock by December 6, 2015. The Council and NMFS, through actions in a future amendment, plan to implement a rebuilding plan and management actions to end overfishing and rebuild the blueline tilefish stock. In the interim, NMFS published an emergency rule to implement temporary annual catch limits and accountability measures for blueline tilefish and modify the current annual catch limits and accountability measures for the deep-water complex. The goal of this action was to minimize future adverse biological effects to the blueline tilefish stock and the socio-economic effects to fishermen and fishing communities that utilize the blueline tilefish while a permanent rulemaking designed to end overfishing and rebuild the stock is developed.

Timetable:

Action | Date | FR Cite
Emergency Rule | 04/17/14 | 79 FR 21636
Final Action | 10/10/14 | 79 FR 61262
Final Action Effective | 10/10/14 |

Regulatory Flexibility Analysis Required: No.

Agency Contact: Roy E. Crabtree, Regional Administrator, Southeast Region, Department of Commerce, National Oceanic and Atmospheric Administration, 263 13th Avenue South, St. Petersburg, FL 33701, Phone: 727 824-5305, Fax: 727 824-5308, Email: roy.crabtree@noaa.gov.

RIN: 0648-BD87

87. Framework Adjustment 3 to the Atlantic Herring Fishery Management Plan

Legal Authority: 16 U.S.C. 1801 et seq.

Abstract: The goal of Framework Adjustment 3 to the Atlantic Herring Fishery Management Plan (Framework 3) was to establish a process for setting and specifying river herring (alewife and blueback) and shad (American and hickory) catch caps for the herring fishery to provide an incentive for herring vessels to continue to avoid river herring and shad and reduce river herring and shad catch to the extent practicable; enhance coordination with the Mid-Atlantic Council to address overlapping fisheries; and promote flexibility to adjust the catch cap(s) in the future as more information becomes available.

Timetable:

Action | Date | FR Cite
NPRM | 06/13/14 | 79 FR 33879
Final Action | 12/04/14 | 79 FR 71960
Final Action Effective | 12/04/14 |

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BE01

88. Steller Sea Lion Protection Measures for the Bering Sea and Aleutian Islands Groundfish Fisheries Off Alaska

Legal Authority: 16 U.S.C. 1801 et seq.

Abstract: This rule revised the Atka mackerel, Pacific cod, and pollock fisheries in the Aleutian Islands subarea to ensure that the Alaska groundfish fisheries are not likely to cause jeopardy of extinction or adverse modification or destruction of designated critical habitat for the endangered western distinct population segment of Steller sea lions. This rule revised fishery closures, season dates, and harvest restrictions, and included a 3-nautical mile closure to groundfish fishing around Kanaga Island/Ship Rock rookery. This action is designed to minimize the economic impact of fishery management measures. This rulemaking will increase industry access to the fishery resources from the status quo while continuing to protect the Steller sea lion population.

Timetable:

Action | Date | FR Cite
NPRM | 07/01/14 | 79 FR 37485
Final Action | 11/25/14 | 79 FR 70285
Final Action Effective | 12/26/14 |

Regulatory Flexibility Analysis Required: Yes.

Agency Contact: James Balsiger, Regional Administrator, Alaska Region, Department of Commerce, National Oceanic and Atmospheric Administration, 709 West Ninth Street, Juneau, AK 99801, Phone: 907 586-7221, Fax: 907 586-7465, Email: jim.balsiger@noaa.gov.

RIN: 0648-BE06

89. Implement 2015-2017 Tilefish Specifications

Legal Authority: 16 U.S.C. 1801 et seq.

Abstract: The National Marine Fisheries Service implemented specifications for the tilefish fishery for fishing years 2015-2017. The Mid-Atlantic Fishery Management Council recommended commercial quotas of 796 mt for fishing year 2015 and 856 mt for fishing years 2016 and 2017. The 2015 quota represents a 12 percent reduction from the commercial quota that has been used in this fishery from 2001-2014. While the fishery is not experiencing overfishing and was recently declared rebuilt, the reduction in the commercial quota is the result of an improved stock assessment and the Council's conservative risk policy in setting the acceptable biological catch limit.

Timetable:

Action | Date | FR Cite
NPRM | 09/03/14 | 79 FR 52293
Final Action | 10/29/14 | 79 FR 64330
Final Action Effective | 11/01/14 |

Regulatory Flexibility Analysis Required: Yes.

Agency Contact: John K. Bullard, Regional Administrator, Greater Atlantic Region, Department of Commerce, National Oceanic and Atmospheric Administration, 55 Great Republic Drive, Gloucester, MA 01930, Phone: 978 281-9287, Email: john.bullard@noaa.gov.

RIN: 0648-BE37

90. Marine Mammal Protection Act Permit Regulation Revisions

Legal Authority: 16 U.S.C. 1374.

Abstract: This action would consider revisions to the implementing regulations governing the issuance of permits for activities under section 104 of the Marine Mammal Protection Act. The intent of this action would be to streamline and update (using plain language) the general permitting information and the specific requirements for the four categories of permits: scientific research (including the General Authorization); enhancement; educational and commercial photography; and public display. The revisions would also simplify procedures for collection, possession, and transfer of marine mammals parts collected before the effective date of the Marine Mammal Protection Act, and also clarify reporting requirements for public display facilities holding marine mammals.

Timetable:

Action | Date | FR Cite
ANPRM | 09/13/07 | 72 FR 52339
Final Action—ANPR Comment Period Extended | 10/15/07 | 72 FR 58279
ANPRM Comment Period End | 11/13/07 | 72 FR 52339
ANPRM Comment Period End | 12/13/07 | 72 FR 58279

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-AV82

91. Designation of Critical Habitat for the Beringia Distinct Population Segment of the Bearded Seal

Legal Authority: 16 U.S.C. 1531 et seq.

Abstract: The National Marine Fisheries Service published a final rule to list the Beringia Distinct Population Segment (DPS) of the bearded seal as a threatened species under the Endangered Species Act (ESA) in December 2012. The ESA requires designation of critical habitat at the time a species is listed as threatened or endangered, or within one year of listing if critical habitat is not then determinable. This rulemaking would designate critical habitat for the Beringia DPS of the bearded seal. The proposed critical habitat designation would be in the northern Bering, Chukchi, and Beaufort seas within the current range of the species.

Timetable:

Action | Date | FR Cite
Withdrawn | 03/10/15 |

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BC55

92. Designation of Critical Habitat for the Distinct Population Segments of Yelloweye Rockfish, Canary Rockfish, and Bocaccio

Legal Authority: 16 U.S.C. 1531 et seq.

Abstract: This action designated critical habitat under the Endangered Species Act for three Distinct Population Segments of rockfish in the Puget Sound/Georgia Basin: (1) The threatened Distinct Population Segments of yelloweye rockfish; (2) the threatened Distinct Population Segments of canary rockfish; and (3) the endangered Distinct Population Segments of Bocaccio.

Timetable:

Action | Date | FR Cite
NPRM | 08/06/13 | 78 FR 47635
Final Rule | 11/13/14 | 79 FR 68041
Final Action Effective | 02/11/15 | 80 FR 7977
Final Action—Correcting Amendment | 02/13/15 | 80 FR 7977

Regulatory Flexibility Analysis Required: Yes.

Agency Contact: Donna Wieting, Director, Office of Protected Resources, Department of Commerce, National Oceanic and Atmospheric Administration, National Marine Fisheries Service, 1315 East-West Highway, Silver Spring, MD 20910, Phone: 301 427-8400.

RIN: 0648-BC76

[FR Doc. 2015-14504 Filed 6-17-15; 8:45 am]

BILLING CODE 3510-12-P